FEDERAL COMMUNICATIONS COMMISSION

47 CFR Part 69

[WC Docket No. 05-25; RM-10593; Report No. 2995]

Petitions for Reconsideration of Action in Rulemaking Proceeding

AGENCY: Federal Communications Commission.

ACTION: Petition for reconsideration.

SUMMARY: In this document, Petitions for Reconsideration (Petitions) have been filed in the Commission's Rulemaking proceeding, one by Gerard J. Duffy of Blooston, Modkofsky, Dickens, Duffy & Prendergrast, LLP, on behalf of Blooston Private Microwave Licenses and a second by David L. Nace, of Lukas, Nace, Gutierrez & Sachs, LLP, on behalf of Small Purchasers Coalition.

DATES: Oppositions to the Petitions must be filed on or before January 14, 2014. Replies to an opposition must be filed on or before January 24, 2014.

ADDRESSES: Federal Communications Commission, 445 12th Street SW., Washington, DC 20554.

FOR FURTHER INFORMATION CONTACT: Christopher Koves, Wireline Competition Bureau, phone: (202) 418-1520.

SUPPLEMENTARY INFORMATION: This is a summary of Commission's document, Report No. 2995, released December 19, 2013. The full text of Report No. 2995 is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: Special Access for Price Cap Local Exchange Carriers; AT&T Corporation Petition for Rulemaking To Reform Regulation of Incumbent Local Exchange Carrier Rates for Interstate Special Access Services, published at 78 FR 67053, November 8, 2013, in WC Docket No. 05-25, RM-10593, and published pursuant to 47 CFR 1.429(e). See also § 1.4(b)(1) of the Commission's rules.

Number of Petitions Filed: 2.

Federal Communications Commission.
Gloria J. Miles,
Federal Register Liaison, Office of the Secretary, Office of Managing Director.

[FR Doc. 2013-31193 Filed 12-27-13; 8:45 am]

BILLING CODE 6712-01-P